OFFICE OF GOVERNMENT ETHICS

5 CFR Part 2600

RIN 3209-AA21

Office of Government Ethics Organization and Functions Regulation; Clarifying Amendment

AGENCY: Office of Government Ethics (OGE).

ACTION: Final rule; amendment.

SUMMARY: The Office of Government Ethics recently published in the Federal Register its final rule updated organization and functions regulation. This amendment clarifies one section of that updated regulation regarding the principal deputy role of OGE's General Counsel.

EFFECTIVE DATE: November 3, 2003.

FOR FURTHER INFORMATION CONTACT: Elizabeth Horton, Attorney Advisor, Office of Government Ethics; telephone: 202-482-9300; TDD (Telecommunications Device for the Deaf and Speech Impaired): 202-482-9293; FAX: 202-482-9237.

SUPPLEMENTARY INFORMATION: Section 2600.103(c)(2) of OGE's recently updated organization and functions regulation as published at 68 FR 41681-41683 (July 15, 2003) provides that the OGE General Counsel serves as the principal deputy of the Director of OGE. This amendment to that section clarifies that OGE's General Counsel so serves, except as the OGE Director expressly provides by written delegation.

Matters of Regulatory Procedure

Administrative Procedure Act

Pursuant to 5 U.S.C. 553(b) and (d), as Director of the Office of Government Ethics, I find good cause exists for waiving the general notice of proposed rulemaking, opportunity for public comment, and 30-day delay in effectiveness as to this clarifying amendment to OGE's organization and functions regulation as recently revised. The notice, comment, and delayed effective date are being waived because this amendment concerns matters of agency organization, practice and procedure.

Executive Order 12866

In promulgating this clarifying amendment, OGE has adhered to the regulatory philosophy and the applicable principles of regulation set forth in section 1 of Executive Order 12866, Regulatory Planning and Review. This amendment has not been reviewed by the Office of Management and Budget under that Executive Order, since it is not deemed “significant” thereunder.

Executive Order 12988

As Director of the Office of Government Ethics, I have reviewed this final regulatory amendment in light of section 3 of Executive Order 12988, Civil Justice Reform, and certify that it meets the applicable standards provided therein.

Regulatory Flexibility Act

As Director of the Office of Government Ethics, I certify under the Regulatory Flexibility Act (5 U.S.C. chapter 6) that this amendatory rulemaking will not have a significant economic impact on a substantial number of small entities.

Paperwork Reduction Act

The Paperwork Reduction Act (44 U.S.C. chapter 35) does not apply because this amendatory rulemaking does not contain information collection requirements that require the approval of the Office of Management and Budget.

Congressional Review Act

The Office of Government Ethics has determined that this amendatory rulemaking is a nonmajor rule under the Congressional Review Act (5 U.S.C. chapter 8) and will submit a report thereon to the U.S. Senate, House of Representatives, and General Accounting Office in accordance with that law at the same time this rulemaking document is sent to the Office of the Federal Register for publication in the Federal Register.

List of Subjects in 5 CFR Part 2600

Conflict of interests, Government employees, Organization and functions (Government agencies).

Approved: October 28, 2003.
Amy L. Comstock,
Director, Office of Government Ethics.

Accordingly, for the reasons set forth in the preamble, the Office of Government Ethics is amending 5 CFR part 2600 as follows:

PART 2600—ORGANIZATION AND FUNCTIONS OF THE OFFICE OF GOVERNMENT ETHICS

1. The authority citation for part 2600 continues to read as follows:

Authority: 5 U.S.C. App. (Ethics in Government Act of 1978); E.O. 12674, 54 FR 15159, 3 CFR, 1989 Comp., p. 215, as modified by E.O. 12731, 55 FR 42547, 3 CFR, 1990 Comp., p. 306.

2. Section 2600.103 is amended by revising paragraph (c)(2) to read as follows:

§ 2600.103 Office of Government Ethics organization and functions.

* * * * *

(c) * * *

(2) The General Counsel is the principal deputy of the Director of OGE, except as the Director expressly provides by written delegation.

* * * * *

[FR Doc. 03-27518 Filed 10-31-03; 8:45 am]

BILLING CODE 6345-02-P